DEPARTMENT OF TRANSPORTATION

Maritime Administration

[Docket Number: MARAD-2001-9047]

Requested Administrative Waiver of the Coastwise Trade Laws

AGENCY: Maritime Administration, Department of Transportation.

ACTION: Invitation for public comments on a requested administrative waiver of the Coastwise Trade Laws for the vessel STEP TWO.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before April 9, 2001.

ADDRESSES: Comments should refer to docket number MARAD-2001-9047. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR Part 388.

Vessel Proposed for Waiver of the U.S.-Build Requirement

(1) Name of vessel and owner for which waiver is requested. Name of vessel: STEP TWO. Owner: Glenn & Linda Westervelt.

(2) Size, capacity and tonnage of vessel. According to the applicant: “Size of Vessel—Length: 46.2′, Beam 14.5″, Tonnage of Vessel—Gross: 29, Net 23.”

(3) Intended use for vessel, including geographic region of intended operation and trade. According to the applicant:

The vessel would be used as a “Boat & Breakfast” of sorts, with the clients keeping the boat in one marina for a week-end or weekly period. Or they would be given the option charter similar to a bareboat situation, which I understand is presently allowed. The difference from a bareboat situation would be that a Licensed Captain would be aboard to do the navigation in order to protect our investment. The charterers would pick from a number of destinations and itinerary to suit their needs and desires. As a minor or side opportunity, the vessel would be available for private sunset cruises or inshore fishing excursions. We plan to base the operation of the vessel out of Atlantic City, New Jersey for the summer months, beginning in the latter part of June and ending in September. Depending on the period of charter, clients would have a range of destinations from New York City down the coast to Ocean City, Maryland including Delaware Bay and Philadelphia, Pennsylvania.

(4) Date and Place of construction and (if applicable) rebuilding. Date of construction: 1985. Place of construction: China.

(5) A statement on the impact this waiver will have on other commercial passenger vessel operators. According to the applicant:

Research has found that there are no other commercial vessels operating a venture of this nature in the Atlantic City and Southern New Jersey area. We are not aware of any bareboat vessels. There are about a dozen commercial fishing vessels taking passengers for hire out of Absecon Inlet. Our vessel is a slow trawler and is not really set for serious fishing. Therefore, we should not impede on any other operator. This is due also to the fact that fishing will only be a minor side attraction to what we are offering. Since we live aboard, this business is only a part-time operation to help defray the cost of maintaining our floating home. In order not to create too much of a hardship on our boat and ourselves, we haved set a limit of a dozen charters a season, if in fact, we are fortunate enough to reach that goal. Therefore, we should not impose a threat to any operation working full-time.

(6) A statement on the impact this waiver will have on U.S. shipyards. According to the applicant:

To our knowledge, this would have little or not effect on U.S. Shipyards. In fact, this operation could be deemed an enhancement to local yards that will be helping to maintain this vessel, with the additional wear and tear associated with operating this venture. Presently, these vessels are already permitted to operate as bareboat entities. The only change we are attempting to make is the addition of a professional Captain, which should be a desired attribute to avoid incidents on the water.

Dated: March 2, 2001.
By Order of the Maritime Administrator.
Joel C. Richard,
Secretary, Maritime Administration.

[FR Doc. 01-5897 Filed 3-8-01; 8:45 am]

BILLING CODE 4910-81-P